FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted January 1, 2012 Thru January 31, 2012
01/03/2012
20120360 | G | Pall Corporation; ForteBio, Inc.; Pall Corporation.
20120362 | G | Wells Fargo & Company; Long Point Capital Fund. L.P.; Wells Fargo & Company.
20120363 | G | Sterling Holdings Ultimate Parent, Inc.; Acxiom Corporation; Sterling Holdings Ultimate Parent, Inc.
20120364 | G | Apollo Investment Fund VII, L.P.; Pearls Invest S.a.r.l.; Apollo Investment Fund VII, L.P.
20120365 | G | AEI Fisker Investments II, LLC; Fisker Automotive Holdings, Inc.; AEI Fisker Investments II, LLC.
20120367 | G | Leggett & Platt, Incorporated; Tinicum Capital Partners II, L.P.; Leggett & Platt. Incorporated.
20120368 | G | International Business Machines Corporation; DemandTec. Inc.; International Business Machines Corporation.
20120369 | G | Tilman J. Fertitta; Morton's Restaurant Group, Inc.; Tilman J. Fertitta.
20120371 | G | Baxter International Inc.; Synovis Life Technologies, Inc.; Baxter International Inc.
01/05/2012
20120375 | G | Prestige Brands Holdings, Inc.; GlaxoSmithKline plc; Prestige Brands Holdings, Inc.
20120381 | G | PTT Global Chemical Public Company; Financiere Foret S.a r.l.; PTT Global Chemical Public Company.
01/06/2012
20120334 | G | Gilead Sciences, Inc.; Pharmasset Inc.; Gilead Sciences, Inc.
20120352 | G | Humana Inc.; SeniorBridge Family Companies, Inc.; Humana Inc.
20120373 | G | Symantec Corporation; Live0fficeHolding Corporation; Symantec Corporation.
20120376 | G | Project Barbour Holdings Corporation; Blue Coat Systems, Inc.; Project Barbour Holdings Corporation.
20120379 | G | Bank of Montreal ; Virtus Investment Partners, Inc.; Bank of Montreal.
01/09/2012
20120380 | G | Wellspring Capital Partners V, L.P.; Sun Capital Partners III QP, L.P.; Wellspring Capital Partners V, L.P.
20120383 | G | Bain Capital Fund X, L.P.; SquareTrade, Inc.; Bain Capital Fund X, L.P.
20120386 | G | Ann Konecny; Dean Operations, Inc.; Ann Konecny.
20120387 | G | Kyocera Corporation; Japan Industrial Fund II, L.P.; Kyocera Corporation.
01/10/2012
20120111 | G | UG1 Corporation; Energy Transfer Partners, L.P.; UGI Corporation.
20120348 | G | AbitibiBowater Inc.; Fibrek Inc.; AbitibiBowater Inc.
01/11/2012
20120346 | G | Marian Health System, Inc.; Affinity Health System; Marian Health System, Inc.
01/12/2012
20120382 | G | International Business Machines Corporation; MEP Holdings I, LLC; International Business Machines Corporation.
20120385 | G | Lone Star V Fund (U.S.), L.P.; Winn-Dixie Stores, Inc.; Lone Star V Fund (U.S.), L.P.
20120395 | G | L-3 Communications Holdings, Inc.; Danaher Corporation; L-3 Communications Holdings, Inc.
20120396 | G | FMC Technologies, Inc.; Schilling Robotics, Inc.; FMC Technologies, Inc.
01/13/2012
20120399 | G | GS Road Investors, L.L.C.; ArcLight Energy Partners Fund III, L.P.; GS Road Investors, L.L.C.
20120402 | G | ESL Partners, L.P.; Sears Holdings Corporation; ESL Partners, L.P.
20120409 | G | Det Norske Veritas Foundation; N.V. KEMA; Det Norske Veritas Foundation.
01/18/2012
20120377 | G | Oak Investment Partners X, Limited Partnership; Visto Corporation; Oak Investment Partners X, Limited Partnership.
01/19/2012
20120417 | G | BRH Holdings, L.P.; Michael J. Levitt; BRH Holdings, L.P.
01/20/2012
20120411 | G | InfoSpace, Inc.; TA IX L.P.; InfoSpace, Inc.
01/23/2012
20120418 | G | BE Aerospace, Inc.; Douglas and Catherine Davis; BE Aerospace, Inc.
20120420 | G | RTI International Metals, Inc.; Marathon Fund Limited Partnership V; RTI International Metals, Inc.
20120422 | G | Sigma-Aldrich Corporation; Avista Capital Partners, L.P.; Sigma-Aldrich Corporation.
01/24/2012
20120151 | G | Oracle Corporation; RightNow Technologies, Inc.; Oracle Corporation
20120433 | G | Acadia Healthcare Company, Inc.; Thoma Cressey Fund VIII, L.P.; Acadia Healthcare Company, Inc.
20120435 | G | Lightyear Fund III, L.P.; Sterling Capital Partners II, L.P.; Lightyear Fund III, L.P.
01/25/2012
20120428 | G | Chicago Growth Partners II, L.P.; Diane Trister Dodge; Chicago Growth Partners II, L.P.
01/26/2012
20120430 | G | Cerberus Institutional Partners, L.P.; Hayes Lemmerz International, Inc.; Cerberus Institutional Partners, L.P.
01/27/2012
20120445 | G | American Securities Partners V. L.P.; Blue Water Communications Group LLC; American Securities Partners V. L.P.
20120451 | G | Anglo American plc; DB Investments S.A.; Anglo American plc.
01/30/2012
20120441 | G | Pembina Pipeline Corporation; Provident Energy Ltd.; Pembina Pipeline Corporation.
20120454 | G | Tokio Marine Holdings, Inc.; Robert Rosenkranz; Tokio Marine Holdings. Inc.
01/31/2012
20120429 | G | BMC Software, Inc.; Numara Software Holdings, Inc.; BMC Software, Inc.

For Further Information Contact: Renee Chapman, Contact Representative; or Theresa Kingsberry, Legal Assistant; Federal Trade Commission, Premerger Notification Office,Bureau of Competition, Room H-303, Washington, DC 20580, (202) 326-3100.

By Direction of the Commission.
Donald S. Clark,
Secretary.

[FR Doc. 2012-3310 Filed 2-14-12; 8:45 am]

BILLING CODE 6750-01-M